DEPARTMENT OF DEFENSE

Department of the Army

[Docket ID USA-2020-HQ-0006]

Proposed Collection; Comment Request

AGENCY: U.S. Army Corps of Engineers (USACE), DoD.

ACTION: Information collection notice.

SUMMARY: In compliance with the Paperwork Reduction Act of 1995, the U.S. Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 6, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, Office of Homeland Security, 441 G Street NW, ATTN: Stephanie Bray, Washington, DC 20314-1000, or contact Stephanie Bray, Office of Homeland Security, by email at Stephanie.N.Bray@usace.army.mil or by phone at 202-761-4827.

SUPPLEMENTARY INFORMATION:

Title; Associated Form; and OMB Number: Wetland Determination Automated Data Sheets and Jurisdictional Determination Forms; Eng Form 6116; OMB Control Number 0710-WDAD.

Needs and Uses: In an effort to address regional wetland characteristics and improve the accuracy and efficiency of wetland delineation procedures, the U.S. Army Corps of Engineers Engineer Research and Development Center (ERDC) developed ten regional supplements to the Corps Manual, the most recent of which were issued in 2006. In developing the regional supplements, the Corps recognized that a single national manual is unable to consider regional differences in climate, geology, soils, hydrology, plant, and animal communities, and other factors that are important to the identification and functioning of wetlands. The wetland indicators and guidance provided in the regional supplements are designed to be used in combination with the Corps Manual to identify wetland waters of the United States.

Affected Public: Individual or household.

Annual Burden Hours: 31,049 Hours.

Number of Respondents: 31,049.

Responses per Respondent: 1.

Annual Responses: 31,049.

Average Burden per Response: 1 hour.

Frequency: Annually.

Dated: May 4, 2020.
Aaron T. Siegel,
Alternate OSD Federal Register Liaison Officer, Department of Defense.

[FR Doc. 2020-09774 Filed 5-6-20; 8:45 am]

BILLING CODE 5001-06-P